DEPARTMENT OF THE INTERIOR

Fish and Wildlife Service

Availability of Draft Comprehensive Conservation Plan and Environmental Assessment for Waubay National Wildlife Refuge Complex, Waubay, SD

AGENCY: Fish and Wildlife Service, Interior.

ACTION: Notice of availability.

SUMMARY: The U.S. Fish & Wildlife Service announces that a Draft Comprehensive Conservation Plan and the Environmental Assessment (CCP/EA) for Waubay National Wildlife Refuge and Wetland Management District Complex (Complex) is available for review and comment. This CCP/EA, prepared pursuant to the National Wildlife Refuge System Improvement Act of 1997 and the National Environmental Policy Act of 1969, describes how the U.S. Fish& Wildlife Service intends to manage the Complex for the next 15 years.

DATES: Please submit comments on the Draft CCP/EA on or before June 28, 2002.

ADDRESSES: Comments on the Draft CCP/EA should be addressed to: Bridget McCann, Planning Team Leader, U.S. Fish & Wildlife Service, P.O. Box 25486, DFC, Denver, CO 80225-0486.

FOR MORE INFORMATION CONTACT: Larry Martin, Project Leader, U.S. Fish & Wildlife Service, Waubay National Wildlife Refuge Complex, 44401 134A Street, Waubay, SD 57273; (605) 947-4521; fax (605) 947-4524; or Bridget McCann, Planning Team Leader, U.S. Fish & Wildlife Service, P.O. Box 25486, DFC, Denver, CO 80225-0486; (303) 236-8145 ext. 685; fax (303) 236-4792.

SUPPLEMENTARY INFORMATION:

Availability of Documents

Copies of the Draft CCP/EA may be obtained by writing to Larry Martin, Project Leader, U.S. Fish & Wildlife Service, Waubay National Wildlife Refuge Complex, 44401 134A Street, Waubay, SD 57273. The Draft CCP/EA will also be available for viewing and downloading online at http://www.r6.fws.gov/larp.

Background

Waubay National Wildlife Refuge (NWR), comprised of 4,650 acres, is located in Day County in northeastern South Dakota. The Refuge's mix of lakes, wetlands, prairie, forests, and cropland is home to a diversity of wildlife. More than 100 bird species nest on this small piece of habitat, with 37 mammals also calling it home. Waubay NWR was established by President Roosevelt in 1935 as “a refuge and breeding ground for migratory birds and other wildlife.”

Waubay Wetland Management District (WMD) protects over 250,000 acres of wetlands and prairie in six counties of northeastern South Dakota. The area's mix of native grass, planted grasses, cropland, and wetlands support a variety of wildlife. Wildlife communities are dependent on the abundant grasslands or wetlands, or both. The WMD is home to 247 species of birds,43 species of mammals, and over 20 species of amphibians and reptiles. Breeding waterfowl and grassland-dependent passerines are two groups that are especially prominent.

This Draft CCP/EA identifies and evaluates three alternatives for managing Waubay National Wildlife Refuge Complex in northeastern South Dakota for the next 15 years.

Under Alternative A, the No Action alternative, current management of the Complex would continue; programs would follow the same direction, emphasis, and intensity as they do at present. No additional restoration of grasslands would occur on the Refuge. No effort would be made to enhance or research the importance of Refuge woodlands. Grassland and wetland easements on the WMD would continue to be purchased at current levels from willing sellers, averaging 10,000 and 2,000 acres per year, respectively. Fee-title acquisitions would be limited to exceptional tracts or those requiring special protection, or particular roundouts to Waterfowl Production Areas (WPAs). Wildlife monitoring on the Complex would be limited to mostly waterfowl surveys with incidental sightings of threatened and endangered species. Public use programs would continue, as is, with no additional educational or recreational programs offered. White-tailed deer hunting on the Refuge would continue for archery, rifle, and muzzleloader seasons. Providing deer hunts for youth and people with disabilities would not be planned for. Ice fishing, with current restrictions, would be allowed on the Refuge. Waterfowl Production Areas on the WMD would remain open to hunting, fishing, and trapping in accordance with State regulations. Development of an environmental education center would not be explored.

Alternative B would focus on protecting remaining tracts of native tallgrass prairie, restoring diversity to degraded grassland sites, replanting croplands to native grasses and forbs, and enhancing and maintaining these sites to support a functioning prairie ecosystem.

Protection of tallgrass prairie would be accomplished through fee-title acquisition, easements or through partnerships with State, Tribal or private organizations. In order to concentrate protection, restoration and management efforts in the WMD, especially in the target area of the Minnesota-Red River Lowlands, activities and management on the Refuge would be reduced to minimum levels. Restoration and management of Refuge woodlands would not occur. Threatened and endangered species on the Complex would be documented, but additional surveys or inventory plans would not be initiated. Protection, restoration, management, and wildlife monitoring efforts would increase in the Minnesota-Red River Lowlands, where tallgrass prairie historically occurred. Other parts of the WMD would receive minimal attention in terms of management and wildlife monitoring. Current hunting and fishing seasons on the Refuge would continue with no effort to expand or offer more accessible opportunities. An increase in fee-title lands would provide expanded opportunities for hunting, fishing, and trapping on the WMD. No changes would be made on the Refuge to provide additional trails or other wildlife observation opportunities. An education/visitor/research center within the Tallgrass Prairie Ecosystem would be developed to educate the public and provide a place for long-term studies on the dynamics and richness of this threatened habitat. Other interpretive and educational programs and special events on the Complex would be minimized to focus staff energies on the tallgrass prairie.

Under alternative C, the proposed action, management of the Complex would be much more aggressive and proactive. Fee-title lands would be managed and monitored to maintain higher quality habitat. All tame grasslands on the Refuge would be converted to native grasslands. Food plots within native woodlands on the Refuge would be restored to native trees to reduce edge effects and brown-headed cowbird populations. Native woodlands on the WMD would be protected where necessary. An inventory and monitoring plan would be developed for threatened and endangered species and State species at risk on the Complex. Public use and recreation on the Complex would be expanded to provide additional and improved educational experiences for visitors. Current hunting opportunities on the Refuge would be augmented by offering youth hunts and/or hunts for people with disabilities. Ice fishing on the Refuge, with current restrictions, would continue. Opportunities for wildlife observation, wildlife photography, environmental education and interpretation would be expanded on the Complex. The development of an outdoor classroom would be explored. The headquarters building would be expanded. One or two additional hiking trails would be developed on the Refuge. A more active volunteer program would be developed and promoted. Educational programs offered for schools in the WMD would increase, as would interpretive opportunities for visitors to WPAs.

Dated: May 7, 2002.
Ralph O. Morgenweck,
Regional Director, Region 6, Denver, Colorado.

[FR Doc. 02-13319 Filed 5-28-02; 8:45 am]

BILLING CODE 4310-55-P